DEPARTMENT OF LABOR

Employment and Training Administration

Comment Request for Information Collection for Placement Verification and Follow-Up of Job Corps Participants, (OMB Control Number 1205-0426), Routine Extension Without Revisions

AGENCY: Employment and Training Administration (ETA), Department of Labor.

ACTION: Notice.

SUMMARY: The Department of Labor (Department), as part of its continuing effort to reduce paperwork and respondent burden, conducts a preclearance consultation program to provide the public and federal agencies with an opportunity to comment on the proposed and continued collection of information in accordance with the Paperwork Reduction Act of 1995 [44 U.S.C. 3506(c)(2)(A)].

Authorized by the Workforce Investment Act (WIA) of 1998 and reauthorized by the Workforce Innovation and Opportunity Act (WIOA) of 2014, this preclearance consultation program helps ensure that requested data can be provided in the desired format, reporting burden (time and financial resources) is minimized, collection instruments are clearly understood, and the impact of collection requirements on respondents can be properly assessed.

Currently, ETA is soliciting comments concerning the extension of the current data collection regarding the Placement Verification and Follow-up of Job Corps Participants, using post-center surveys of Job Corps graduates and former enrollees (OMB Control Number 1205-0426), which expires December 31, 2015. Please note that once OMB approves this extension request, the Department will then submit to OMB a request for approval of revisions to this data collection as required by WIOA.

A copy of the proposed Information Collection Request (ICR) can be obtained by contacting the person listed below in the addresses section of this notice.

DATES: Written comments must be submitted to the office listed in the address section below on or before November 3, 2015.

ADDRESSES: Submit written comments to Lawrence Lyford, Office of Job Corps, Room N-4507, Employment and Training Administration, U.S. Department of Labor, 200 Constitution Avenue NW., Washington, DC 20210. Telephone number: 202-693-3121 (this is not a toll-free number). Individuals with hearing or speech impairments may access the telephone number above via TTY by calling the toll-free Federal Information Relay Service at 877-889-5627 (TTY/TDD). Fax: 202-693-3113. Email: lyford.lawrence@dol.gov.

SUPPLEMENTARY INFORMATION:

I. Background

Job Corps is the country's largest residential training program for at-risk youth ages 16 through 24. It addresses multiple barriers to employment faced by at-risk youth throughout the United States. Through a network of 124 campuses nationwide, Job Corps offers a comprehensive array of career development services to prepare students for successful careers. Job Corps employs a holistic career development training approach which integrates the teaching of academic, career technical, employability skills and social competencies through a combination of classroom, practical, and work-based learning experiences to prepare students for stable, long-term, and high-paying jobs. In addition, Job Corps commits resources to provide job placement and career transition services to all graduates and students who have stayed with the program for more than 60 days, and to conduct placement follow-ups at 6 month and 12 months after initial placement.

II. Review Focus

The Department is particularly interested in comments which:

• Evaluate whether the proposed collection of information is necessary for an agency to properly performs its functions, including whether the information will have practical utility;

• evaluate the agency's accuracy in estimating the burden of the proposed collection of information, including the validity of the methodology and assumptions used;

• enhance the quality, utility, and clarity of the information to be collected; and

• minimize the burden of information collection on those who are to respond—including that obtained through appropriate automated, electronic, mechanical, or other technological collection techniques or other forms of information technology, e.g., permitting electronic submissions of responses.

III. Current Actions

This submission requests comments on three primary and two secondary data collection instruments that collect follow-up data about individuals who are no longer actively participating in Job Corps. These youths either graduated from Job Corps or stayed in the program at least 60 days but left before completing graduation requirements (former enrollees). These data collection activities are conducted with the following groups of recent Job Corps participants:

• Former enrollees who were placed in a job or school program; this group will be contacted 90 days after separation.

• graduates who were placed in a job or school program; this group will be contacted 90 days after initial placement;

• graduates who were placed in a job or school program; this group will be contacted 6 months after initial placement;

• graduates who were placed in a job or school program; this group will be contacted 12 months after initial placement.

The data collection instrument for graduates 90 to 120 days after their initial placement is called Interim Checkpoint for Eligibility (ICFE). Administration of the ICFE facilitates the key data collection at 6 and 12 months. In addition, two brief questionnaires (one for employers and one for schools or training institutions) are used to collect re-verification data about initial placement for the subset of placed graduates and former enrollees who cannot be contacted directly.

To maximize the comparability of the data collected from the different subgroups of students, the ICFE, the 90-day follow-up for former enrollees, and the 6-month and 12-month follow-up sections of the data collection instruments use modules with identical sets of questions on the same topics.

The questions are designed to obtain:

• Data to re-verify the initial job or school placements of placed graduates and former enrollees (only in the instruments administered at 90 days and the ICFE)

• information about employment experiences in the previous week

• information about educational experiences in the previous week

• summary information about the work, school, and job search activities of those who were neither working nor in school the previous week

• information about satisfaction with the services provided by Job Corps

Type of Review: extension without changes.

Title: Placement Verification and Follow-up of Job Corps Participants.

OMB Number: 1205-0426.

Affected Public: Individuals or households and private sector: Businesses and not-for-profit profit institutions.

Total Annual Burden Cost for Respondents: $0.

Data collection activity | Number of respondents | Frequency | Total responses | Average time per response (hours) | Burden hours
Placed Former Enrollees at 90 days | 800 | 1 | 800 | 0.25 | 200
Placed graduates at 90-120 days | 13,800 | 1 | 13,800 | 0.25 | 3,450
Placed Graduates at Six Months | 15,500 | 1 | 15,500 | 0.20 | 3,100
Placed Graduates at 12 Months | 13,200 |  | 13,200 | 0.20 | 2,640
Employer/Institution Re-verification | 5,000 | 1 | 5,045 | 0.17 | 850
Total | 48,300 |  | 48,345 |  | 10,240

Comments submitted in response to this comment request will be summarized and/or included in the request for Office of Management and Budget approval of the ICR; they will also become a matter of public record.

Portia Wu,
Assistant Secretary for Employment and Training, Labor.

[FR Doc. 2015-21996 Filed 9-3-15; 8:45 am]

BILLING CODE 4510-FT-P